DEPARTMENT OF ENERGY

Federal Energy Regulatory Commission

Combined Notice of Filings

Take notice that the Commission has received the following Natural Gas Pipeline Rate and Refund Report filings:

Filings Instituting Proceedings

Docket Numbers: RP14-207-000.

Applicants: Transcontinental Gas Pipe Line Company.

Description: S-2 Tracker Filing Effective 2013-12-01 to be effective 12/1/2013.

Filed Date: 11/25/13.

Accession Number: 20131125-5074

Comments Due: 5 p.m. ET 12/9/13.

Docket Numbers: RP14-208-000.

Applicants: Southern Natural Gas Company, L.L.C.

Description: SCRM Report of Southern Natural Gas Company, L.L.C.

Filed Date: 11/25/13.

Accession Number: 20131125-5082.

Comments Due: 5 p.m. ET 12/9/13.

Docket Numbers: RP14-209-000.

Applicants: Mojave Pipeline Company, L.L.C.

Description: Annual Fuel and L&U Effective 1_1_14 to be effective 1/1/2014.

Filed Date: 11/25/13.

Accession Number: 20131125-5122.

Comments Due: 5 p.m. ET 12/9/13.

Docket Numbers: RP14-210-000.

Applicants: El Paso Natural Gas Company, L.L.C.

Description: Article 11.2(a) Annual Inflation Adjustment Filing to be effective 1/1/2014.

Filed Date: 11/25/13.

Accession Number: 20131125-5124.

Comments Due: 5 p.m. ET 12/9/13.

Docket Numbers: RP14-211-000.

Applicants: Cameron Interstate Pipeline, LLC.

Description: Cameron Interstate Pipeline, LLC submits tariff filing per 154.402: Cameron Interstate Pipeline Annual Adjustment of Fuel Retainage Percentage to be effective 11/25/2013.

Filed Date: 11/25/13.

Accession Number: 20131125-5150.

Comments Due: 5 p.m. ET 12/9/13.

Docket Numbers: RP14-212-000.

Applicants: Natural Gas Pipeline Company of America.

Description: Natural Gas Pipeline Company of America LLC submits tariff filing per 154.204: Negotiated Rate Filing—BP Canada Amendment to be effective 12/1/2013.

Filed Date: 11/25/13.

Accession Number: 20131125-5156.

Comments Due: 5 p.m. ET 12/9/13.

Docket Numbers: RP14-213-000.

Applicants: Iroquois Gas Transmission System, L.P.

Description: Iroquois Gas Transmission System, L.P. submits tariff filing per 154.204: 11/25/13 Negotiate Rates—JP Morgan Ventures Energy Corp (HUB) 6025-89 to be effective 11/24/2013.

Filed Date: 11/25/13.

Accession Number: 20131125-5233.

Comments Due: 5 p.m. ET 12/9/13.

Docket Numbers: RP14-214-000.

Applicants: Iroquois Gas Transmission System, L.P.

Description: Iroquois Gas Transmission System, L.P. submits tariff filing per 154.204: 11/25/13 Negotiated Rates—Sequent Energy Management (HUB) 3075-89 to be effective 11/24/2013.

Filed Date: 11/25/13.

Accession Number: 20131125-5234.

Comments Due: 5 p.m. ET 12/9/13.

Docket Numbers: RP14-215-000.

Applicants: Tennessee Gas Pipeline Company, L.L.C.

Description: Tennessee Gas Pipeline Company, L.L.C. 2012-2013 Cashout Report.

Filed Date: 11/25/13.

Accession Number: 20131125-5245.

Comments Due: 5 p.m. ET 12/9/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-941-003.

Applicants: Southern Star Central Gas Pipeline, Inc.

Description: Southern Star Central Gas Pipeline, Inc. submits tariff filing per 154.203: Rate Case (RP13-941) Motion Filing to be effective 12/1/2013.

Filed Date: 11/26/13.

Accession Number: 20131126-5021.

Comments Due: 5 p.m. ET 12/9/13.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 26, 2013.
Nathaniel J. Davis, Sr.,
Deputy Secretary.

[FR Doc. 2013-28925 Filed 12-3-13; 8:45 am]

BILLING CODE 6717-01-P